FEDERAL ELECTION COMMISSION

[Notice 2011-05]

Filing Dates for the Nevada Special Election in the 2nd Congressional District

AGENCY: Federal Election Commission.

ACTION: Notice of filing dates for special election.

SUMMARY: Nevada has scheduled a Special General Election on September 13, 2011, to fill the U.S. House seat in the 2nd Congressional District formerly held by Senator Dean Heller.

Committees required to file reports in connection with the Special General Election on September 13, 2011, shall file a 12-day Pre-General Report, and a 30-day Post-General Report.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the Nevada Special General Election shall file a 12-day Pre-General Report on September 1, 2011, and a 30-day Post-General Report on October 13, 2011. (See chart below for the closing date for each report).

Note that these reports are in addition to the campaign committee's year-end filing in January 2012. (See chart below for the closing date for each report).

Unauthorized Committees (PACs and Party Committees)

Political committees filing on a semi-annual basis in 2011 are subject to special election reporting if they make previously undisclosed contributions or expenditures in connection with the Nevada Special General Election by the close of books for the applicable report(s). (See chart below for the closing date for each report).

Committees filing monthly that make contributions or expenditures in connection with the Nevada Special General Election will continue to file according to the monthly reporting schedule.

Additional disclosure information in connection with the Nevada Special Election may be found on the FEC Web site at http://www.fec.gov/info/report_dates_2011.shtml.

Disclosure of Lobbyist Bundling Activity

Campaign committees, party committees and Leadership PACs that are otherwise required to file reports in connection with the special elections must simultaneously file FEC Form 3L if they receive two or more bundled contributions from lobbyists/registrants or lobbyist/registrant PACs that aggregate in excess of $16,200 during the special election reporting periods (see charts below for closing date of each period). 11 CFR 104.22(a)(5)(v).

Calendar of Reporting Dates for Nevada Special Election
REPORT | CLOSE OF BOOKS ¹ | REG./CERT. & OVERNIGHT MAILING DEADLINE | FILING DEADLINE
QUARTERLY FILING POLITICAL COMMITTEES INVOLVED IN THE SPECIAL GENERAL (09/13/11) MUST FILE
Pre-General | 08/24/11 | 08/29/11 | 09/01/11
Post-General | 10/03/11 | 10/13/11 | 10/13/11
October Quarterly | ——WAIVED——
Year-End | 12/31/11 | 01/31/12 | 01/31/12
SEMI-ANNUAL FILING POLITICAL COMMITTEES INVOLVED IN THE SPECIAL GENERAL (09/13/11) MUST FILE
Pre-General | 08/24/11 | 08/29/11 | 09/01/11
Post-General | 10/03/11 | 10/13/11 | 10/13/11
Year-End | 12/31/11 | 01/31/12 | 01/31/12
¹ These dates indicate the beginning and the end of the reporting period. A reporting period always begins the day after the closing date of the last report filed. If the committee is new and has not previously filed a report, the first report must cover all activity that occurred before the committee registered as a political committee with the Commission up through the close of books for the first report due.

Dated: May 17, 2011.
On behalf of the Commission.
Cynthia L. Bauerly,
Chair, Federal Election Commission.

[FR Doc. 2011-12523 Filed 5-20-11; 8:45 am]

BILLING CODE 6715-01-P